DEPARTMENT OF DEFENSE

Department of the Army, Corps of Engineers

Notice of Intent To Prepare a Supplemental Environmental Impact Statement to the 1995 Amite River and Tributaries, Louisiana, East Baton Rouge Parish Watershed Flood Risk Management Project Environmental Impact Statement

AGENCY: U.S. Army Corps of Engineers, DoD.

ACTION: Notice of intent.

SUMMARY: The U.S. Army Corps of Engineers (USACE), Mississippi Valley Division, New Orleans District (CEMVN), is announcing its intent to prepare a Supplemental Environmental Impact Statement (SEIS) to re-evaluate impacts associated with the Amite River and Tributaries (ART), Louisiana, East Baton Rouge (EBR) Watershed Flood Risk Management Project (EBR FRM) in East Baton Rouge Parish, Louisiana. The EBR FRM project was previously studied in the July 1995 ART, Louisiana, EBR Parish Watershed Flood Risk Management Project Feasibility Study and EIS. Since the initial 1995 impact assessment was conducted, the project area has transitioned from a rural setting with large amounts of undeveloped land, to a more densely populated urban setting containing subdivisions, buildings, and roadways with greater runoff of water during storm events. Due to these changed conditions, the proposed work in these waterways will be designed to convey flows that occur during more frequent but less intense storm events, compared to the storm events that were considered in the original plan addressed in the 1995 EIS. These factors lead to requiring a reassessment of environmental impacts.

ADDRESSES: U.S. Army Corps of Engineers, New Orleans District, Attn: CEMVN-PDS-N, 7400 Leake Avenue, New Orleans, Louisiana 70118.

FOR FURTHER INFORMATION CONTACT: Questions and scoping comments regarding the proposed action should reference “East Baton Rouge Watershed Flood Control SEIS” and be directed to Mr. Jason A. Emery by mail at U.S. Army Corps of Engineers, New Orleans District, Attn: CEMVN-PDS-N, 7400 Leake Avenue, New Orleans, Louisiana 70118; by phone at (504) 862-2364; or by email at mvnenvironmental@usace.army.mil. For additional information, including but not limited to a copy of the 1995 EIS, and other associated documents, please visit the BBA18 Construction, East Baton Rouge Project website at: https://www.mvn.usace.army.mil/About/Projects/BBA-2018/East-Baton-Rouge/.

SUPPLEMENTARY INFORMATION: 1. Project Details. The EBR FRM Project is in southeast Louisiana situated across several sub-basins in East Baton Rouge Parish. The federal authorization is to reduce flooding along 5 sub-basins throughout the parish, including Jones Creek, Ward Creek, Bayou Fountain, Blackwater Bayou, and Beaver Bayou. This project consists of improvements to 50 miles of channels, including clearing and snagging, widening, and placement of riprap to reduce the risk of flood damages during storm events.

The EBR FRM Project within the Parish of East Baton Rouge, Louisiana was authorized by Section 101(21) of the Water Resources Development Act of 1999, Public Law 106-53, as modified by Division D, Section 116 of the Consolidated Appropriations Resolution of 2003, Public Law 108-7, and Section 3074 of the Water Resources Development Act of 2007, Public Law 110-114. The Bipartisan Budget Act of 2018, H. R. 1892—13, Title IV, Corps of Engineers—Civil, Department of the Army, Investigations, made funds available for the expenses related to the completion, or initiation and completion, of certain flood and storm damage reduction, including this project.

The EBR FRM project was originally evaluated in an EIS in July 1995. The evaluated plan consisted of approximately 25 miles of minimal clearing and snagging, 24 miles of earthen channel enlargement, and 17 miles of concrete lining of channels in 5 sub-basins across East Baton Rouge Parish. Recreation features consisted of the construction of 11 miles of bicycle paths on the Jones Creek basin, which would also include plantings of trees. Aesthetic mitigation features consisted of tree plantings or tree and shrub plantings along both sides of 29.4 miles of waterways. Habitat mitigation was combined for the five basins and consisted of acquisition and reforesting of a total of 397 acres of open lands. The lands were proposed to be near existing parks, as practical, within the parish and would be managed as wooded parks.

The Bipartisan Budget Act of 2018, signed into law February 9, 2018, (BBA 2018, Public Law 115-123) funded design updates and construction of the EBR FRM Project. The project began pre-construction engineering and design (PED) phase in 2019 when CEMVN received the allocated funds. Due to changed conditions since completion of the study in 1995 (i.e., increased development and completion of portions of the project by local governments) and additional level of design during PED, the project proposed actions have been refined. The proposed actions still meet project objectives to reduce the risk of flood damages caused by storm events, but the risk reduction will relate to less intense, more frequent storm events. The refinement of the proposed action has resulted in a less impactful project to the environment. The objective of the updated design is to minimize impacts to the developed areas while conveying the equivalent to the volume of flows evaluated in 1995. This is important because compared to the intensity of storm events that were considered and addressed in the original plan and 1995 EIS, the SEIS will evaluate proposed plans that consider the reduction of risk of damage arising from less intense storm events that occur more frequently.

Since the 1995 impact assessment was conducted, the project area has transitioned from a rural setting with large amounts of undeveloped land, to a more densely populated urban setting containing subdivisions, buildings, and roadways. Due to these changed conditions, the proposed work in these waterways will be designed to convey flows that are likely to occur more frequently during less intense storm events, compared to the storm events that were considered in the original plan addressed in the 1995 EIS. These factors lead to the need to re-evaluate the environmental impacts. The SEIS will address impacts associated with three channel improvement actions: the widening and clearing and snagging of Beaver Bayou; the widening and clearing and snagging of Blackwater Bayou and its Tributary; and the widening, clearing and snagging, and rip rap lining of Upper Jones Creek and Tributaries. The SEIS will also evaluate a no action alternative.

Project features not included in this SEIS include the clearing and snagging of Lower Jones, Lower Bayou Fountain and Lower Ward Creeks in EBR Parish, which were separately evaluated in Environmental Assessment (EA) #561 (EA #561) titled “Amite River and Tributaries, Louisiana, East Baton Rouge Parish Watershed Flood Risk Management Project. Clearing and Snagging of Lower Jones, Lower Bayou Fountain and Lower Ward Creeks” in EBR Parish #561.FONSI: July 7, 2021. EA #561 can be found online at New Orleans District > Missions > Environmental > NEPA Compliance Documents > Bipartisan Budget Act 2018 (BBA 18) > East Baton Rouge Parish Flood Risk Reduction (army.mil).

Additionally, alternatives to compensate for anticipated and unavoidable impacts to 293 Annual Habitat Units of bottomland hardwood habitat associated with the construction of the 1995 authorized plan for the EBR Flood Risk Management project were evaluated under EA #576, titled “Bipartisan Budget Act (BBA) Construction Projects; West Shore Lake Pontchartrain (WSLP), Comite River Diversion, and East Baton Rouge (EBR) Flood Risk Management, BBA Construction Mitigation (EA #576). FONSI: April 13, 2020. EA #576 can be found online at https://www.mvn.usace.army.mil/Missions/Environmental/NEPA-Compliance-Documents/Bipartisan-Budget-Act-2018-BBA-18/West-Shore-Lake-Pontchartrain/. The estimated habitat mitigation level for the EBR FRM project is being re-evaluated as a part of this SEIS to ensure CEMVN mitigates habitat impacts at the appropriate level.

2. Proposed Action. The EBR FRM project is intended to reduce flooding in East Baton Rouge Parish by improving 38.8 miles of channels in 5 sub-basins. The channel improvements, which are a part of this proposed action, include clearing and snagging, channel widening, and rip-rap lining in Beaver Bayou, Blackwater Bayou and its Tributary, and Upper Jones Creek and Tributaries.

Beaver Bayou: The proposed plan consists of 1.6 miles earthen channel enlargement and 6.4 miles of clearing and snagging.

Blackwater Bayou and its Tributary: The proposed plan consists of 4.1 miles earthen channel enlargement and 10.5 miles of clearing and snagging.

Upper Jones Creek and Tributaries Lively Bayou and Weiner Creek: The proposed plan consists of clearing and snagging approximately 11.9 miles of channel and placement of rip rap for 4.3 miles following channel widening.

The proposed improvements are designed to reduce the risk of flood damages caused by out of bank flooding during storm events.

This SEIS would provide an assessment of the proposed design alternatives for the various reaches. When unavoidable impacts occur, the CEMVN will offset those impacts through compensatory mitigation by replacing the lost habitat's functions and services equally and in-kind. Compensatory mitigation is required by the Water Resources Development Act (WRDA) of 1986, Section 906, as amended and by the Clean Water Act Section 404(b)(1) Guidelines.

3. Scoping. The CEMVN invites all affected federal, state, and local agencies, affected Native American Tribes, other interested parties, and the general public to participate in the National Environmental Policy Act (NEPA) process during development of the SEIS. The purpose of the public scoping process is to provide information to the public, narrow the scope of analysis to significant environmental issues, serve as a mechanism to solicit agency and public input on alternatives and issues of concern, and ensure full and open participation in scoping for the draft SEIS. To ensure that all the issues related to the proposed plans for Beaver Bayou, Blackwater Bayou and its Tributary, and Upper Jones Creek and Tributaries are addressed, the CEMVN will conduct virtual public scoping meeting(s) to which agencies, organizations, and members of the general public are invited to present comments or suggestions with regard to the range of actions, alternatives, and potential impacts to be considered in the draft SEIS. Project and public scoping meeting information, including information as to where, when, and how to participate and submit scoping comments as well as other opportunities for public involvement, will be available on CEMVN's website at: https://www.mvn.usace.army.mil/About/Projects/BBA-2018/East-Baton-Rouge/. Notification of virtual scoping meetings will also be available via press releases, special public notices, and on CEMVN's social media platforms, at a minimum.

4. Federal Authority. The SEIS will disclose the context and intensity of environmental impacts, including focusing the analysis on those effects that are reasonably foreseeable and that have a reasonably close causal relationship to the proposed action as required under the Council of Environmental Quality's (CEQ) NEPA regulations at 40 CFR parts 1500-1508 and the Department of the Army's (DA) NEPA regulations at 33 CFR part 325, Appendix B. A reasonable range of alternatives will be determined and significant issues related to the proposed action will be identified during agency and public scoping.

The following agencies are being invited as Cooperating Agencies on the SEIS: Environmental Protection Agency (EPA), Department of the Interior's U.S. Fish and Wildlife Service (USFWS), U.S. Department of Agriculture's Natural Resources Conservation Service (NRCS), Advisory Council on Historic Preservation (ACHP), Louisiana's Historic Preservation Office (LA SHPO), and Louisiana's Department of Natural Resources (LA-DNR).

5. Alternatives. The SEIS will address a reasonable range of alternatives based on the proposed project's purpose and need and in view of its previous authorization. The SEIS will compare the proposed channel improvements of Beaver Bayou, Blackwater Bayou and Tributary, and Upper Jones Creek and Tributaries against the No Action Alternative (Future without the Project). The proposed project and the resulting analysis will be presented in the SEIS.

6. Potentially Significant Issues. The SEIS will analyze the potential impacts on the human and natural environment resulting from the proposed Project. The scoping, public involvement, and interagency coordination processes will help identify and define the range of potential significant issues that will be considered. Important resources and issues to be evaluated in the SEIS could include, but are not limited to, the reasonably foreseeable effects on wetlands and other waters of the U.S.; aquatic resources; commercial and recreational fisheries; wildlife resources; essential fish habitat; water quality; cultural resources; geology and soils; hydrology and hydraulics; air quality; marine mammals; threatened and endangered species and their critical habitats; navigation and navigable waters; induced flooding; employment and incomes; land use; property values; tax revenues; population and housing; community and regional growth; environmental justice; community cohesion; public services; recreation; transportation and traffic; utilities and community service systems; and cumulative effects of related projects in the study area.

7. Environmental Consultation and Review Authorizations. The proposed Action is being coordinated with federal, state, regional, and local agencies. In accordance with relevant environmental laws and regulations, CEMVN will consult with the following agencies: USFWS under the Fish and Wildlife Coordination Act; USFWS under the Endangered Species Act; NMFS under the Magnuson-Stevens Fishery Conservation and Management Act; Louisiana Department of Environmental Quality for Water Quality Certification; and, the ACHP, Louisiana SHPO, and the appropriate Tribal Historic Preservation Officers under the National Historic Preservation Act and integrated NHPA/EIS process.

8. Availability. The draft SEIS is presently scheduled to be available for public review and comment in September 2022. A Final SEIS is tentatively scheduled for release in January 2023. All comments received throughout the review process will become part of the project file for the proposed Project and will be subject to public release.

Edward E. Belk, Jr.,
Programs Director, Mississippi Valley Division, U.S. Army Corps of Engineers.

[FR Doc. 2022-12211 Filed 6-6-22; 8:45 am]

BILLING CODE 3720-58-P